DEPARTMENT OF HEALTH AND HUMAN SERVICES

Health Resources and Services Administration

Notice of Class Deviation From Competition Requirements for National Organizations for State and Local Officials Program

AGENCY: Health Resources and Services Administration (HRSA), Department of Health and Human Services.

ACTION: Notice of Class Deviation from Competition Requirements for National Organizations for State and Local Officials Program.

SUMMARY: In FY 2019, HRSA received funding from the Minority HIV/AIDS Fund from the Office of Secretary. The purpose of Minority HIV/AIDS Fund is to reduce new HIV infections, improve HIV-related health outcomes, and to reduce HIV-related health disparities for racial and ethnic minority communities by supporting innovation, collaboration, and the integration of best practices, effective strategies, and promising emerging models in the response to HIV among minority communities.

HRSA will be providing supplemental funds to support activities for the Association of State and Territorial Health Officials (ASTHO), to support the Ending the HIV Epidemic: A Plan for America (EtHE) initiative to eliminate new HIV infections by providing communities most severely affected by HIV with critical resources to address the HIV epidemic. The supplemental funds will be used to augment the awardee's current activities to improve access to quality services, support a skilled health workforce, develop innovative programs, and prevent and suppress communicable diseases to preserve and improve public health through the National Organizations for State and Local Officials program. The purpose of this supplement is to identify key stakeholders in the seven southern states that have a substantial rural HIV burden and establish collaborative partnerships in each state by convening leadership meetings with State Health Officials, Ryan White HIV/AIDS Program Part B Directors, HIV Surveillance Coordinators, HIV Prevention Directors, and other partners engaged in EtHE efforts.

SUPPLEMENTARY INFORMATION: Intended Recipient of the Award: Association of State and Territorial Health Officials, Arlington, Virginia.

Amount of Non-Competitive Awards: $100,000.

Period of Supplemental Funding: June 28, 2918-August 31, 2020.

CFDA Number: 93.011.

Authority: Section 311(a) of the Public Health Service (PHS) Act.

Justification: The EtHE is the Administration's initiative to end the HIV epidemic in the United States by 2030. A key strategy for reaching the goal for EtHE is to prioritize the seven states (Mississippi, South Carolina, Alabama, Arkansas, Kentucky, Missouri, and Oklahoma) that have a substantial rural burden (over 75 cases and 10 percent or more of their diagnoses in rural areas) of new HIV diagnoses. Eight of the 10 states with the highest rates of new HIV diagnoses are in the South, as are the 10 metropolitan statistical areas. The impact of HIV in the South also varies by race. African Americans are severely affected and accounted for 54 percent of new HIV diagnoses in 2014. Black gay, bisexual, and other men who have sex with men (MSM) face an especially heavy burden, accounting for 59 percent of all HIV diagnoses among African Americans in the South. In fact, of all black MSM diagnosed with HIV nationally in 2014, more than 60 percent were living in the South. Black women face an equally disproportionate burden of the disease, accounting for 69 percent of all HIV diagnoses among women in the South. In addition to the severe burden in the South, nationally there is a high incidence of HIV among transgender individuals, high-risk heterosexuals, and persons who inject drugs.

These states will need to mobilize quickly in order to reach the 2030 goal of EtHE. The proposed State Collaborative Partnerships to End the HIV Epidemic project will identify key stakeholders in the seven states and establish collaborative partnerships in each state by convening leadership meetings with State Health Officials, Ryan White HIV/AIDS Program Part B Directors, HIV Surveillance Coordinators, HIV Prevention Directors, and other partners engaged in EtHE efforts. These activities provide the foundational groundwork needed to support the quick ramp up of EtHE activities in FY 2020 and contribute to the overall success of the initiative.

The ASTHO represents public health agencies in the United States, the U.S. Territories, and the District of Columbia, and over 100,000 public health professionals these agencies employ and therefore is uniquely positioned to convene the 7 priority states as outlined above. Based on their expertise representing chief health officials in each state, formulating and influencing sound public health policy, and supporting collaboration within and across states to ensure excellence in state-based public health practice, ASTHO can quickly and effectively stand-up this project. As part of their NOSLO activities, ASTHO plays a critical and distinct role in facilitating information exchange, collaboration, shared learning opportunities, and technical assistance that allows state and territorial health officials to achieve maximum impact and community health improvement, which will further support the success of the State Collaborative Partnerships to End the HIV Epidemic project.

This action will allow ASTHO to implement the proposed activities, immediately allowing work to begin to meet important benchmarks that will contribute to the success of the program.

FOR FURTHER INFORMATION CONTACT: Kasey Farrell, Lead, Strategic Partnerships Team, Office of Planning, Analysis, and Evaluation, HRSA, 5600 Fishers Lane, 14W-02, Rockville, Maryland 20857, (301) 443-0188, kfarrell@hrsa.gov.

Dated: June 24, 2019.
George Sigounas,
Administrator.

[FR Doc. 2019-13750 Filed 6-26-19; 8:45 am]

BILLING CODE 4165-15-P